DEPARTMENT OF AGRICULTURE

Commodity Credit Corporation

Farm Service Agency

[Docket ID: FSA-2024-0004]

Information Collection Request; Representation for CCC and FSA Loans and Authorization To File a Financing Statement

AGENCY: Commodity Credit Corporation and Farm Service Agency, USDA.

ACTION: Notice and request for comments.

SUMMARY: In accordance with the Paperwork Reduction Act requirement, the Commodity Credit Corporation (CCC) and the Farm Service Agency (FSA) are requesting comments from all interested individuals and organizations on an extension with revision of a currently approved information collection that supports CCC and FSA loan programs. The information collection is necessary to gather data regarding the applicant which is required on a financing statement, and to obtain the applicant's permission to file a financing statement prior to the execution of a security agreement.

DATES: We will consider comments we receive by June 17, 2024.

ADDRESSES: We invite you to submit comments on this notice. You may submit comments electronically through the Federal eRulemaking Portal: Go to https://www.regulations.gov and search for Docket ID FSA-2024-0004. Follow the online instructions for submitting comments. All comments received will be posted without change and will be publicly available on https://www.regulations.gov.

You may also send comments to the Desk Officer for Agriculture, Office of Information and Regulatory Affairs, Office of Management and Budget, Washington, DC 20503.

Comments will be available for inspection online at http://www.regulations.gov.

FOR FURTHER INFORMATION CONTACT: For specific questions related to collection activities, contact Angela Pope by email at: Angela.Pope@usda.gov. Persons with disabilities who require alternative means for communication should contact the USDA Target Center at (202) 720-2600 (voice).

SUPPLEMENTARY INFORMATION:

Title: Representations for Commodity Credit Corporation or Farm Service Agency Loans and Authorization to File a Financing Statement and Related Documents.

OMB Control Number: 0560-0215.

Expiration Date of Approval: August 31, 2024.

Type of Request: Extension with a revision.

Abstract: The CCC and FSA are requesting comments from all interested individuals and organizations on an extension with revision of a currently approved information collection that supports CCC and FSA loan programs. We are requesting a 3-year extension for the collection.

Form CCC-10, “Representations for Commodity Credit Corporation or Farm Service Agency Loans and Authorization to File a Financing Statement and Related Documents” is necessary to:

(a) Gather or verify basic data, provided by a CCC or FSA loan applicant, that is required on a financing statement filed by CCC or FSA to perfect a security interest in collateral used to secure a loan; and

(b) Obtain applicant permission to file a financing statement prior to the execution of a security agreement.

The number of burden hours is being revised in this request. The number of burden hours decreased from 385 hours to 298 hours due to fewer producers who are new to FSA loan programs who had not previously provided applicable data and less time spent by producers who review the data on the form each time they apply for a FSA loan.

For the following estimated total annual burden on respondents, the formula used to calculate the total burden hours is the estimated average time per response multiplied by the estimated total annual of responses.

Estimated Annual Burden: The public reporting burden for this information collection is estimated to average 5 minutes per response (0.08 hours).

Respondents: Individual producers and farming entities.

Estimated Number of Respondents: 3,734.

Estimated Number of Responses per Respondent: 1.

Estimated Total Annual Response: 3,734.

Estimated Average Time per response: 0.08 (average 5 minutes).

Estimated Total Annual Burden on Respondents: 298.

We are requesting comments on all aspects of this information collection to help us to:

(1) Evaluate whether the proposed collection of information is necessary for the proper performance of the functions of the agency, including whether the information will have practical utility;

(2) Evaluate the accuracy of the agency's estimate of the burden of the collection of information, including the validity of the methodology and assumptions used;

(3) Evaluate the quality, ability and clarity of the information technology; and

(4) Minimize the burden of the information collection on those who respond through the use of appropriate automated, electronic, mechanical, or other technological collection techniques or other forms of information.

All responses to this notice, including names and addresses when provided, will be summarized and included in the request for OMB approval. All comments will also become a matter of public record.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD- 3027, found online at https://www.usda.gov/oascr/how-to-file-aprogram-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Zach Ducheneaux,
Administrator, Farm Service Agency, and Executive Vice President, Commodity Credit Corporation.

[FR Doc. 2024-08017 Filed 4-15-24; 8:45 am]

BILLING CODE 3411-E2-P